DEPARTMENT OF HOMELAND SECURITY

Coast Guard

33 CFR Part 100

[Docket No. USCG-2021-0671]

Special Local Regulations; Savannah Harbor Boat Parade of Lights and Fireworks, Savannah River, Savannah, GA

AGENCY: Coast Guard, Department of Homeland Security (DHS).

ACTION: Notification of enforcement of regulation.

SUMMARY: The Captain of the Port Savannah will enforce the special local regulation for the Savannah Harbor Boat Parade of Lights and Fireworks from 5:00 p.m. until 10:00 p.m. on November 27, 2021. This action is necessary to ensure safety of life on navigable waters of the Savannah River during the Savannah Harbor Boat Parade of Lights and Fireworks displays. During the enforcement period, no person or vessel may enter, transit through, anchor in, or remain within the designated area unless authorized by the Captain of the Port Savannah or a designated representative.

DATES: The regulations in 33 CFR 100.701, table 1 to § 100.701, paragraph (d), Item 4, will be enforced from 5 p.m. until 10 p.m., on November 27, 2021.

FOR FURTHER INFORMATION CONTACT: If you have questions about this notification of enforcement, call or email LT Alex McConnell, Marine Safety Unit Savannah Office of Waterways Management, Coast Guard; telephone 912-652-4353, extension 240, or email Alexander.W.McConnell@uscg.mil.

SUPPLEMENTARY INFORMATION: The Coast Guard will enforce the special local regulation for the Savannah Harbor Parade of Lights and Fireworks in 33 CFR 100.701 Table 1 to § 100.701, paragraph (d), Item 4, from 5 p.m. until 10 p.m., on November 27, 2021. Under the provisions of 33 CFR 100.701, all persons and vessels are prohibited from entering the regulated area unless they receive permission to do so from the Captain of the Port Savannah, or designated representatives. This action is to provide notice of enforcement action of the regulated area that will encompass the Savannah River in Savannah, GA from the Talmadge Bridge near River Street, coordinates 32°05′20″ N, 081°05′56.3″ W, and proceeding down river to a line drawn at 146 degrees true from day board 62, approximate coordinates are: 32°04′48.7″ N, 081°04′47.9″ W.

Spectator vessels may safely transit outside the regulated area, but may not anchor, block, loiter in, impede the transit of festival participants or official patrol vessels or enter the regulated area without approval from the Captain of the Port Savannah or a designated representative. The Coast Guard may be assisted by other Federal, State, or local law enforcement agencies in enforcing this regulation. In addition to this notice of enforcement in the Federal Register, the Coast Guard will provide notice of the regulated area via Local Notice to Mariners, Broadcast Notice to Mariners, and on-scene designated representatives.

K.A. Broyles,
Commander, U.S. Coast Guard, Captain of the Port, Savannah, GA.

[FR Doc. 2021-24076 Filed 11-4-21; 8:45 am]

BILLING CODE 9110-04-P